DEPARTMENT OF DEFENSE

Office of Department of the Air Force

Notice of Intent To Grant an Exclusive Patent License

AGENCY: Department of the Air Force, DoD.

ACTION: Notice of intent.

SUMMARY: Pursuant to the Bayh-Dole Act and implementing regulations, the Department of the Air Force hereby gives notice of its intent to grant an exclusive patent license agreement to The Board of Regents of the University of Texas System, an agency of the State of Texas, having a place of business at 210 West 7th Street, Austin, TX 78701.

DATES: Written objections must be filed no later than fifteen (15) calendar days after the date of publication of this Notice.

ADDRESSES: Submit written objections to the Air Force Materiel Command Law Office, AFMCLO/JAZ, 2240 B Street, Room 260, Wright-Patterson AFB, OH 45433-7109; Facsimile: (937) 255-3733; or Email: afmclo.jaz.tech@us.af.mil. Include Docket No. AFD 1870 in the subject line of the message.

FOR FURTHER INFORMATION CONTACT: Air Force Materiel Command Law Office, AFMCLO/JAZ, 2240 B Street, Rm 260, Wright-Patterson AFB, OH 45433-7109; Facsimile: (937) 255-3733; Email: afmclo.jaz.tech@us.af.mil.

SUPPLEMENTARY INFORMATION: The Department of the Air Force intends to grant the exclusive patent license agreement to consolidate rights with co-owner The Board of Regents of the University of Texas System for the invention described in: U.S. Patent Application Serial No. 62/748,888, filed October 22, 2018, and entitled “Multilayered Sheet-Polarizers with Enhanced Polarization Ratio and High Power Tolerance.”

The consolidation of rights is in the best interest of both owners in order to promote commercialization of the technology. The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Adriane Paris,
Acting Air Force Federal Register Liaison Officer.

[FR Doc. 2019-24704 Filed 11-14-19; 8:45 am]

BILLING CODE 5001-10-P